DEPARTMENT OF HEALTH AND HUMAN SERVICES

Centers for Disease Control and Prevention

Guide to Community Preventive Services (GCPS) Task Force Meeting

In accordance with section 10(a)(2) of the Federal Advisory Committee Act (Pub. L. 92-463), the Centers for Disease Control and Prevention (CDC) announces the following meeting:

Name: Task Force on Community Preventive Services.

Times and Dates: 8:30 a.m.-6 p.m., October 22, 2003. 8:30 a.m.-3:15 p.m., October 23, 2003.

Place: The Turner Conference Center, 1615 Clifton Road, NE., Atlanta, Georgia 30329, telephone (404) 712-6000.

Status: Open to the public, limited only by the space available.

Purpose: The mission of the Task Force is to develop and publish a Guide to Community Preventive Services, which is based on the best available scientific evidence and current expertise regarding essential public health services and what works in the delivery of those services.

Matters To Be Discussed: Agenda items include: Briefings on administrative information; strategic planning; evaluations; economic reviews of collaborative care interventions; school-based programs for tobacco use prevention; designated driver programs & school-based education for motor vehicle occupant injury prevention; community programs for obesity prevention & control; approaches to reviews on HIV prevention and folate supplementation; and promoting cancer screening.

Agenda items are subject to change as priorities dictate.

Contact Person or Additional Information: Peter Briss, M.D., M.P.H., Acting Chief, Community Guide Branch, Division of Prevention Research and Analytic Methods, Epidemiology Program Office, CDC, 4770 Buford Highway, M/S K-73, Atlanta, Georgia, telephone 770/488-8189.

Persons interested in reserving a space for this meeting should call 770/488-8189 by close of business on October 17, 2003.

The Director, Management Analysis and Services office has been delegated the authority to sign Federal Register notices pertaining to announcements of meetings and other committee management activities, for both CDC and the Agency for Toxic Substances and Disease Registry.

Dated: October 8, 2003.
Alvin Hall,
Director, Management Analysis and Services Office, Centers for Disease Control and Prevention.

[FR Doc. 03-25981 Filed 10-10-03; 8:45 am]

BILLING CODE 4163-18-P